DEPARTMENT OF AGRICULTURE

Forest Service

Crescent Ranger District; Deschutes National Forest; Oregon; Rim-Paunina Project

AGENCY: Forest Service, USDA.

ACTION: Notice of intent to prepare an environmental impact statement.

SUMMARY: The USDA, Forest Service, will prepare an environmental impact statement (EIS) for a project called Rim-Paunina in the Walker Mountain area on the southern end of the Crescent Ranger District. The project focus is on developing and maintaining a diversity of wildlife habitats that are appropriate for an eastside dry forest environment. Potential actions include thinning of trees in variable densities and prescribed burning. This project also provides an additional opportunity for participation in a collaborative planning process with a diverse group of other interested stakeholders. The Rim-Paunina area is approximately a 45,000-acre watershed bordered by private industrial forest to the north and the Fremont/Winema National Forests to the south and east. It is mostly comprised of ponderosa and lodgepole pine forests with some mixed conifer on Walker Rim. It is located in T. 25-26 S, R. 8 E., Willamette Meridian. The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Chris Mickle, Team Leader, Crescent Ranger District, P.O. Box 208, Crescent, Oregon 97733, or submit to comments-pacificnorthwest-deschutes-crescent@fs.fed.us. Please put “Rim-Paunina Scoping” in the subject line of your e-mail. You will have another opportunity for comment when alternatives have been developed and the Environmental Impact Statement is made available.

FOR FURTHER INFORMATION CONTACT: Chris Mickle, Team Leader, Crescent Ranger District, P.O. Box 208, Crescent, Oregon 97733, phone (541) 433-3200.

Responsible Official: The responsible official will be John Allen, Deschutes National Forest Supervisor, 1001 SW Emkay Drive, Bend, Oregon 97701.

SUPPLEMENTARY INFORMATION:

Purpose and Need. The Forest Plan supports proactive management and enhancing the vigor of the forest, rather than reacting to an event (page 4-36). Therefore, the goal of this project is to utilize forestry techniques that disturb the forest at appropriate levels to create and maintain a diversity of habitats closer to what historically occurred. There is a need to decrease the density of trees to provide a variety of stand structures and compositions appropriate to the Rim-Paunina biophysical environment in order to increase resilience and provide habitat for a variety of species (flora and fauna) across the landscape. Also, given that the Forest Service should place equal consideration to all resources and non-consumptive values to ensure they are weighted equally, then there is a need to contribute to the local and regional economies by providing timber and other wood fiber products now and in the future.

Proposed Action: The proposed action is to use silvicultural treatments, such as thinning of trees, to provide a diversity of habitats for Management Indicator Species more in line with historical conditions to maintain and enhance existing late and old structured stand characteristics, and encourage the development of such characteristics. This would occur on approximately 14,620 acres. Also, apply prescribed fire to fire dependent ecosystems to create habitat conditions that allow fire to perform its natural ecological function and more closely mimic natural processes that maintain white-headed woodpecker habitat on approximately 8,553 acres. Some of the prescribed burning acres are a subset of the tree thinning acres. These activities would apply scientifically sound Strategic Placement of Treatments (or SPOTS) on the landscape and maintain them through time to optimize diversity and juxtaposition of habitats. Opportunities resulting from vegetation management activities would offset costs and provide products to stimulate the economy.

Comment: Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days. A draft EIS will be filed with the Environmental Protection Agency (EPA) and available for public review by Winter 2009/2010. The EPA will publish a Notice of Availability (NOA) of the draft EIS in the Federal Register. The final EIS is scheduled to be available early spring 2010. The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to comments received during the comment period for the draft EIS. The Forest Service is the lead agency and the responsible official is the Crescent District Ranger, Deschutes National Forest. The responsible official will decide where, and whether or not to designate a trail system, staging areas, and close roads. The responsible official will also decide how to mitigate impacts of these actions and will determine when and how monitoring of effects will take place.

The Ranger District is trying additional outreach with this project, seeking input from a group of interested citizens that are participating in an effort to work more closely together. The District and participants will try to develop a stronger shared understanding of what is needed to successfully maintain and improve wildlife habitat in the planning area. If you are interested in joining or have more questions about the process, please notify the District, or Phil Chang, Program Administrator, Central Oregon Intergovernmental Council, 2363 SW Glacier Place, Redmond, OR 97756; or phone (541) 548-9534.

The Rim-Paunina Project decision and rationale will be documented in the Record of Decision. This project will be subject to Forest Service Appeal Regulations (35 CFR Part 215).

Holly Jewkes,
Crescent District Ranger.

[FR Doc. E9-11888 Filed 5-21-09; 8:45 am]

BILLING CODE 3410-11-M